DEPARTMENT OF COMMERCE

International Trade Administration

[A-821-802]

Uranium From the Russian Federation: Continuation of Suspension of Antidumping Investigation

AGENCY: Enforcement and Compliance, International Trade Administration, Department of Commerce.

SUMMARY: As a result of determinations by the U.S. Department of Commerce (Commerce) that termination of the Agreement Suspending the Antidumping Investigation on Uranium from the Russian Federation (Agreement) and the suspended investigation on uranium from the Russian Federation (Russia) would likely lead to continuation or recurrence of dumping, and by the U.S. International Trade Commission (ITC) that termination of the suspended investigation would likely lead to material injury to an industry in the United States, Commerce is publishing this notice of continuation of the Agreement.

DATES: Applicable April 12, 2023.

FOR FURTHER INFORMATION CONTACT: Sally C. Gannon or Jill Buckles, Enforcement and Compliance, International Trade Administration, U.S. Department of Commerce, 1401 Constitution Avenue NW, Washington, DC 20230; telephone: (202) 482-0162 or (202) 482-6230, respectively.

SUPPLEMENTARY INFORMATION:

Background

On September 1, 2022, Commerce initiated the fifth sunset review of the suspended antidumping duty investigation on uranium from the Russian Federation (Russia), pursuant to section 751(c) of the Tariff Act of 1930, as amended (the Act).¹ On the basis of the notice of intent to participate and adequate substantive responses filed by domestic interested parties and the lack of response from any respondent interested party, Commerce conducted an expedited (120-day) sunset review, in accordance with 19 CFR 351.218(e)(1)(ii)(C)(2).² As a result of its review, Commerce determined that termination of the Agreement and suspended antidumping duty investigation on uranium from Russia would lead to a continuation or recurrence of dumping and notified the ITC of the magnitude of the margins likely to prevail, should the Agreement be terminated.³ On April 6, 2023, pursuant to section 751(c) of the Act, the ITC published its determination that termination of the suspended antidumping duty investigation on uranium from Russia would be likely to lead to continuation or recurrence of material injury to an industry in the United States within a reasonably foreseeable time.⁴

¹ See Initiation of Five-Year (Sunset) Reviews, 87 FR 53727 (September 1, 2022).

² See Commerce's Letter, “Sunset Reviews Initiated on September 1, 2022,” dated October 25, 2022.

³ See Uranium from the Russian Federation; Final Results of the Expedited Fifth Sunset Review of the Suspension Agreement, 88 FR 61 (January 3, 2023).

⁴ See Uranium from Russia, 88 FR 20553 (April 6, 2023)

Scope of the Agreement

The product covered by the Agreement is natural uranium in the form of uranium ores and concentrates; natural uranium metal and natural uranium compounds; alloys, dispersions (including cermets), ceramic products, and mixtures containing natural uranium or natural uranium compounds; uranium enriched in U²³⁵ and its compounds; alloys, dispersions (including cermets), ceramic products, and mixtures containing uranium enriched in U²³⁵ or compounds of uranium enriched in U²³⁵; and any other forms of uranium within the same class or kind.

Uranium ore from Russia that is milled into U3O8 and/or converted into UF6 in another country prior to direct and/or indirect importation into the United States is considered uranium from Russia and is subject to the terms of this Agreement.

For purposes of this Agreement, uranium enriched in U²³⁵ or compounds of uranium enriched in U²³⁵ in Russia are covered by this Agreement, regardless of their subsequent modification or blending. Uranium enriched in U²³⁵ in another country prior to direct and/or indirect importation into the United States is not considered uranium from Russia and is not subject to the terms of this Agreement.⁵

⁵ The second amendment of two amendments to the Agreement effective on October 3, 1996, in part included within the scope of the Agreement for Russian uranium which had been enriched in a third country prior to importation into the United States. According to the amendment, this modification remained in effect until October 3, 1998. See Amendments to the Agreement Suspending the Antidumping Investigation on Uranium from the Russian Federation, 61 FR 56665, 56667 (November 4, 1996).

HEU is within the scope of the underlying investigation, and HEU is covered by this Agreement. For the purpose of this Agreement, HEU means uranium enriched to 20 percent or greater in the isotope uranium-235.

Imports of uranium ores and concentrates, natural uranium compounds, and all forms of enriched uranium are currently classifiable under the Harmonized Tariff Schedule of the United States (HTSUS) subheadings: 2612.10.00, 2844.10.20, 2844.20.00, respectively. Imports of natural uranium metal and forms of natural uranium other than compounds are currently classifiable under HTSUS subheadings: 2844.10.10 and 2844.10.50. HTSUS subheadings are provided for convenience and Customs purposes. The written description of the scope of this proceeding is dispositive.

Continuation of Suspension of Investigation

As a result of the respective determinations by Commerce and the ITC that termination of the Agreement and suspended antidumping duty investigation on uranium from Russia would likely lead to continuation or recurrence of dumping and material injury to an industry in the United States, consistent with section 751(d)(2) of the Act, Commerce hereby gives notice of the continuation of the Agreement. The effective date of continuation will be the date of publication in the Federal Register of this notice of continuation. Pursuant to Section XII.A of the Agreement, Commerce intends to initiate the next sunset review of the Agreement in 2028.

Administrative Protective Order

This notice also serves as the only reminder to parties subject to administrative protective orders (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

We are issuing and publishing these results and notice in accordance with sections 751(c), 752(c), and 777(i)(1) of the Act and 19 CFR 351.218.

Dated: April 6, 2023.
Abdelali Elouaradia,
Deputy Assistant Secretary for Enforcement and Compliance.

[FR Doc. 2023-07625 Filed 4-11-23; 8:45 am]

BILLING CODE 3510-DS-P